DEPARTMENT OF STATE

[Delegation of Authority No. 520]

Delegation by the Secretary of State to the Assistant Secretary of State for Population, Refugees, and Migration; Facilitating USCIS VTC Interviews of Refugee Applicants

By virtue of the authority vested in the Secretary of State by the laws of the United States, including 22 U.S.C. 2651a, pursuant to authority delegated by the Secretary of the Department of Homeland Security (DHS) on August 6, 2021 (DHS Delegation Number 00117), and subject to the DHS Secretary's oversight, direction, and guidance, I hereby delegate to the assistant secretary for Bureau of Population, Refugees, and Migration, to the extent authorized by law, the authority to designate Department employees as immigration officers to facilitate U.S. Citizenship and Immigration Services (USCIS) video teleconference interviews of overseas refugee applicants, pursuant to section 103(a)(6) of the Immigration and Nationality Act (8 U.S.C. 1103(a)(6)) and 8 CFR 2.1.

Nothing in this delegation shall be construed as superseding or circumventing any authorities delegated within DHS, or as superseding or circumventing the restriction in the Departments of Commerce, Justice, and State, the Judiciary, and Related Agencies Appropriations Act, 1998, title I, Public Law No 105-119 (8 U.S.C. 1103 note) with respect to the acceptance of fingerprints.

The authority delegated herein may be exercised by the Secretary, Deputy Secretary, Deputy Secretary for Management and Resources, and the Under Secretary for Civilian Security, Democracy, and Human Rights.

This delegation of authority shall be published in the Federal Register.

Dated: November 15, 2021.
Antony J. Blinken,
Secretary of State.

[FR Doc. 2021-26100 Filed 11-30-21; 8:45 am]

BILLING CODE 4710-33-P